EXPORT-IMPORT BANK OF THE UNITED STATES

Economic Impact Policy

This notice is to inform the public that the Export-Import Bank of the United States has received an application for a $19.5 million long-term guarantee to support the export of approximately $30 million worth of mining trucks to the Ukraine. The repayment term of the guarantee is 7 years. The U.S. exports will enable the Ukrainian mining company to establish a maximum production capacity of 28 million metric tons of iron ore per year. Available information indicates that all of the Ukrainian iron ore production will be sold domestically in the Ukraine. Interested parties may submit comments on this transaction by email to economic.impact@exim.gov or by mail to 811 Vermont Avenue NW., Room 947, Washington, DC 20571, within 14 days of the date this notice appears in the Federal Register.

Angela Mariana Freyre,
Senior Vice President and General Counsel.

[FR Doc. 2012-8829 Filed 4-11-12; 8:45 am]

BILLING CODE 6690-01-P